DEPARTMENT OF HEALTH AND HUMAN SERVICES

National Institutes of Health

Privacy Act of 1974; System of Records

AGENCY: National Institutes of Health, Department of Health and Human Services.

ACTION: Rescindment of system of records notices.

SUMMARY: In accordance with the requirements of the Privacy Act of 1974, as amended, the Department of Health and Human Services (HHS) is rescinding 14 systems of records maintained by the National Institutes of Health (NIH), for the reason that each system of records either is obsolete or duplicates another system of records.

DATES: In accordance with 5 U.S.C. 552a(e)(4), this notice is applicable upon publication.

ADDRESSES: The public may submit written comments, by mail or email, to Dustin Close, Office of Management Assessment, National Institutes of Health, 6705 Rockledge Drive—Suite 601, Bethesda, MD 20892, email privacy@mail.nih.gov.

FOR FURTHER INFORMATION CONTACT: General questions about the systems of records may be submitted to Dustin Close, Office of Management Assessment, National Institutes of Health, 6705 Rockledge Drive—Suite 601, Bethesda, MD 20892, telephone 301-496-4606, email privacy@mail.nih.gov.

SUPPLEMENTARY INFORMATION: NIH/HHS is rescinding the 14 systems of records based on the following reasons:

I. Records No Longer Exist

Four of the systems of records are obsolete; the records were disposed of in accordance with the applicable disposition schedule approved by the National Archives and Records Administration (NARA), cited below:

1. 09-25-0078, Administration: Consultant File, HHS/NIH/NHLBI. These records were maintained on computer disks and paper file folders. They were used to identify and select experts and consultants for program reviews and evaluations and to evaluate National Heart, Lung, and Blood Institute (NHLBI) special grants and contracts. Records included the individuals' curriculums vitae, resumes, and names. The data on the disks and in the folders had not been updated in years and was no longer used. At the end of 2023, the records were deleted in compliance with NIH Records Retention Schedule 12-014, Electronic Information Systems/Administration (Disposition Authority DAA-0443-2013-0004-0004).

2. 09-25-0121, International Activities: Senior International Fellowships Program, HHS/NIH/FIC. These records were maintained by the Fogarty International Center (FIC) on computer disks and paper file folders. The records were used by FIC for award and administration of fellowships to outstanding faculty members in mid-career from U.S. biomedical research and educational institutions for study abroad, to distinguished scientists, and to scholars invited to accept NIH scholarships. The records were comprised of the individuals' applications and associated records, reports, employment and education histories, and references. The programs no longer exist, and the records were deleted in compliance with NIH Records Retention Schedule 12-019, Electronic Information Systems/Activities: International Fellowship Program (Disposition Authority DAA-0443-2019-0008-0001).

3. 09-25-0034, International Activities: Scholars-in-Residence Program, HHS/NIH/FIC. Same explanation and same disposition schedule as for 09-25-0121.

4. 09-25-0041, Research Resources: Scientists Requesting Hormone Distribution. These records consisted of applications from scientists requesting hormones and antibodies from the National Institute of Diabetes, and Digestive Kidney Diseases (NIDDK) for research purposes. They were stored in paper file folders and were used to review the applications to determine if the scientists were qualified to receive the materials. The programs no longer exist, and the records were deleted in compliance with NIH Records Retention Schedule 12-011, Electronic Information Systems/Research Resources (Disposition Authority DAA-0443-2012-0007-0003).

II. Records Exist But Are No Longer Retrieved by Personal Identifier

The records in one system of records still exist but are no longer retrieved by personal identifier so no longer constitute Privacy Act records:

5. 09-25-0033, International Activities: Fellowships Awarded by Foreign Organizations, HHS/NIH/FIC. These records were about U.S. citizens qualified in health-related sciences who submitted applications through NIH for fellowships for study abroad. They were stored in paper file folders and were used by NIH to perform scientific reviews and evaluations of the applicants' qualifications to determine which applicants were suitable for referral to the fellowship-awarding organizations. The paper file system that was used was terminated. Existing records have been moved to electronic form and are stored on a network shared drive. The files are no longer kept in a system from which they can be retrieved by a unique identifier. The files are now kept as general program correspondence in compliance with NIH Records Retention Schedule 12-006, International Activities: Fellowships Awarded by Foreign Organizations (Disposition Authority DAA-0443-2018-0004-0001).

III. Records Exist But Are Now Covered In Another System of Records

The records in the remaining nine systems of records still exist but are now covered by another NIH SORN.

• The seven systems of records listed below are being rescinded as duplicative of system of records 09-25-0200, Clinical, Basic, and Population-based Research Studies of the National Institutes of Health (NIH), HHS/NIH/OD. All seven cover records used for clinical, basic, and population-based NIH research studies, mirroring the categories of individuals and categories of records covered in system of records 09-25-0200. The legal authorities cited for system of records 09-25-0200 overlap those cited for the systems of records being rescinded. Specifically, 42 U.S.C. 241—Research and Investigations Generally (Sec. 301 of the Public Health Service (PHS) Act) is cited for six of the seven systems of records, and 42 U.S.C. 284—Directors of National Research Institutes (Sec. 405 of the PHS Act) is cited for four of the seven systems of records, and system of records 09-25-0200 cites Secs. 301 and 405 of the PHS Act in addition to several other sections of the PHS Act which cover research and investigations, in general, while giving authority to the Directors of NIH Institutes and Centers to carry out the mission of NIH.

6. 09-25-0202, Patient Records on PHS Beneficiaries (1935-1974) and Civilly Committed Drug Abusers (1967-1976) Treated at the PHS Hospitals in Fort Worth, Texas, or Lexington, Kentucky.

7. 09-25-0203, National Institute on Drug Abuse, Intramural Research Program, Federal Prisoner and Non-Prisoner Research Files.

8. 09-25-0207, Subject-Participants in Pharmacokinetic Studies on Drugs of Abuse and on Treatment Medications.

9. 09-25-0208, Drug Abuse Treatment Outcome Study.

10. 09-25-0209, Subject-Participants in Drug Abuse Research Studies on Drug Dependence and in Research Supporting Investigational New Drug and New Drug Applications.

11. 09-25-0210, Shipment Records of Drugs of Abuse to Authorized Researchers.

12. 9-25-0211, Intramural Research Program Records of In-and-Out-Patients with Various Types of Alcohol Abuse and Dependence, Relatives of Patients with Alcoholism, and Healthy Volunteers.

• The below system of records is being rescinded as duplicative of system of records 09-25-0166, Administration: Radiation and Occupational Safety and Health Management Information Systems, HHS/NIH/Office of Research Services (ORS), which covers the same records (records used to administer safety glasses to individuals) used by the same office (the Division of Occupational Health and Safety) under the same authority (5 U.S.C. 7902) under its second listed purpose: to monitor, track, and assess the use of personal protective equipment in the workplace to ensure availability, effectiveness, and proper maintenance.

13. 09-25-0007, Administration: NIH Safety Glasses Issuance Program, HHS/NIH/ORS.

• The below system of records is being rescinded as duplicative of system of records 09-25-0036, Extramural Awards and Chartered Advisory Committees (IMPAC 2), Contract Information (DCIS), and Cooperative Agreement Information, which covers the same application information (e.g., award processing information, historical information pertaining to awarded contracts, and general contact information for former fellows and applicants used for contractual business with NIH) and cites more appropriate authorities (i.e., 5 U.S.C. 301; 42 U.S.C. 217a, 241, 282(b)(6), 284a, and 288; and 48 CFR Subparts 15.3 and 42.15) than the authority cited in the below system of records (i.e., 42 U.S.C. 209):

14. 09-25-0124, Administration: Pharmacology Research Associates.

For the foregoing reasons, the below 14 systems of records are rescinded:

SYSTEM NAME AND NUMBER:

Patient Records on PHS Beneficiaries (1935-1974) and Civilly Committed Drug Abusers (1967-1976) Treated at the PHS Hospitals in Fort Worth, Texas, or Lexington, Kentucky, 09-25-0202.

HISTORY:

67 FR 60742 (Sept. 26, 2002), 83 FR 6591 (Feb. 14, 2018).

SYSTEM NAME AND NUMBER:

National Institute on Drug Abuse, Intramural Research Program, Federal Prisoner and Non-Prisoner Research Files, 09-25-0203.

HISTORY:

67 FR 60742 (Sept. 26, 2002), 83 FR 6591 (Feb. 14, 2018).

SYSTEM NAME AND NUMBER:

Subject-Participants in Pharmacokinetic Studies on Drugs of Abuse and on Treatment Medications, 09-25-0207.

HISTORY:

67 FR 60742 (Sept. 26, 2002), 83 FR 6591 (Feb. 14, 2018).

SYSTEM NAME AND NUMBER:

Drug Abuse Treatment Outcome Study, 09-25-0208.

HISTORY:

67 FR 60742 (Sept. 26, 2002), 83 FR 6591 (Feb. 14, 2018).

SYSTEM NAME AND NUMBER:

Subject-Participants in Drug Abuse Research Studies on Drug Dependence and in Research Supporting Investigational New Drug and New Drug Applications, 09-25-0209.

HISTORY:

67 FR 60742 (Sept. 26, 2002), 83 FR 6591 (Feb. 14, 2018).

SYSTEM NAME AND NUMBER:

Shipment Records of Drugs of Abuse to Authorized Researchers, 09-25-0210.

HISTORY:

67 FR 60742 (Sept. 26, 2002), 83 FR 6591 (Feb. 14, 2018).

SYSTEM NAME AND NUMBER:

Administration: Consultant File, HHS/NIH/NHLBI, 09-25-0078.

HISTORY:

67 FR 60742 (Sept. 26, 2002), 83 FR 6591 (Feb. 14, 2018).

SYSTEM NAME AND NUMBER:

International Activities: Senior International Fellowships Program, HHS/NIH/FIC, 09-25-0121.

HISTORY:

67 FR 60742 (Sept. 26, 2002), 83 FR 6591 (Feb. 14, 2018).

SYSTEM NAME AND NUMBER:

International Activities: Fellowships Awarded by Foreign Organizations, HHS/NIH/FIC, 09-25-0033.

HISTORY:

67 FR 60742 (Sept. 26, 2002), 83 FR 6591 (Feb. 14, 2018).

SYSTEM NAME AND NUMBER:

International Activities: Scholars-in-Residence Program, HHS/NIH/FIC, 09-25-0034.

HISTORY:

67 FR 60742 (Sept. 26, 2002), 83 FR 6591 (Feb. 14, 2018).

SYSTEM NAME AND NUMBER:

Administration: Pharmacology Research Associates, 09-25-0124.

HISTORY:

67 FR 60742 (Sept. 26, 2002), 83 FR 6591 (Feb. 14, 2018).

SYSTEM NAME AND NUMBER:

Research Resources: Scientists Requesting Hormone Distribution, 09-25-0041.

HISTORY:

67 FR 60742 (Sept. 26, 2002), 83 FR 6591 (Feb. 14, 2018).

SYSTEM NAME AND NUMBER:

Administration: NIH Safety Glasses Issuance Program, HHS/NIH/ORS, 09-25-0007.

HISTORY:

67 FR 60742 (Sept. 26, 2002), 83 FR 6591 (Feb. 14, 2018).

SYSTEM NAME AND NUMBER:

Intramural Research Program Records of In-and-Out-Patients with Various Types of Alcohol Abuse and Dependence, Relatives of patients with Alcoholism, and Healthy Volunteers, 09-25-0211.

HISTORY:

67 FR 60742 (Sept. 26, 2002), 83 FR 6591 (Feb. 14, 2018).

Alfred C. Johnson,
Deputy Director for Management, National Institutes of Health.

[FR Doc. 2024-16669 Filed 7-29-24; 8:45 am]

BILLING CODE 4140-01-P